DEPARTMENT OF THE INTERIOR

Bureau of Ocean Energy Management, Regulation and Enforcement

Outer Continental Shelf Official Protraction Diagrams

AGENCY: Bureau of Ocean Energy Management, Regulation and Enforcement, Interior.

ACTION: Notice.

SUMMARY: Notice is hereby given that effective with this publication, the following NAD 83-based Outer Continental Shelf Official Protraction Diagrams (OPDs) located within Atlantic Ocean areas, with revision dates as indicated, are now available. The BOEMRE in accordance with its authority and responsibility under Title 43, Code of Federal Regulations, is updating the basic record used for the description of renewable energy, mineral, and oil and gas lease sales in the geographic areas they represent. These revised OPDs reflect updated locations for the Submerged Lands Act (3 nautical mile), Limit of “8(g) Zone,” National Marine Sanctuary, and/or Planning Area boundaries. The revised OPDs are for informational purposes only.

Outer Continental Shelf Official Protraction Diagrams in the North Atlantic, Mid Atlantic, South Atlantic, and Straits of Florida Planning Areas

Description/Date

NG17-02 (Ft. Pierce)—April 1, 2008

NG17-03 (Walker Cay)—April 1, 2008

NG17-05 (West Palm Beach)—April 1, 2008

NG17-06 (Bahamas)—April 1, 2008

NG17-08 (Miami)—April 1, 2008

NG17-09 (Bimini)—April 1, 2008

NG17-10 (Dry Tortugas)—April 1, 2008

NG17-11 (Key West)—April 1, 2008

NH17-02 (Brunswick)—April 1, 2008

NH17-05 (Jacksonville)—April 1, 2008

NH17-08 (Daytona Beach)—April 1, 2008

NH17-11 (Orlando)—April 1, 2008

NH18-01 (Harrington Hill)—April 1, 2008

NH18-02 (Taylor)—April 1, 2008

NH18-03 (Unnamed)—April 1, 2008

NH18-04 (Blake Spur)—April 1, 2008

NH18-05 (Unnamed)—April 1, 2008

NI17-09 (Georgetown)—April 1, 2008

NI17-11 (Savannah)—April 1, 2008

NI17-12 (James Island)—April 1, 2008

NI18-01 (Rocky Mount)—April 1, 2008

NI18-02 (Manteo)—April 1, 2008

NI18-04 (Beaufort)—April 1, 2008

NI18-05 (Russell)—April 1, 2008

NI18-06 (Hatteras Ridge)—April 1, 2008

NI18-07 (Cape Fear)—April 1, 2008

NI18-08 (Marmer)—April 1, 2008

NI18-09 (Lanier)—April 1, 2008

NI18-10 (Richardson Hills)—April 1, 2008

NI18-11 (Wittman)—April 1, 2008

NI18-12 (Tibbet)—April 1, 2008

NI19-04 (Evans)—April 1, 2008

NI19-07 (Unnamed)—April 1, 2008

NJ18-02 (Wilmington)—May 1, 2006

NJ18-03 (Hudson Canyon)—April 1, 2008

NJ18-05 (Salisbury)—May 1, 2006

NJ18-06 (Wilmington Canyon)—April 1, 2008

NJ18-08 (Chincoteague)—May 1, 2006

NJ18-09 (Baltimore Rise)—April 1, 2008

NJ18-11 (Currituck Sound)—April 1, 2008

NJ19-01 (Block Canyon)—April 1, 2008

NJ19-04 (Heezen Plateau)—April 1, 2008

NJ19-05 (Powell)—April 1, 2008

NJ19-06 (Muller)—April 1, 2008

NJ19-07 (Jones)—April 1, 2008

NJ19-08 (Uchupi)—April 1, 2008

NJ19-10 (Wilmington Valley)—April 1, 2008

NK18-09 (Hartford)—May 1, 2006

NK18-11 (Newark)—May 1, 2006

NK18-12 (New York)—May 1, 2006

NK19-01 (Portland)—May 1, 2006

NK19-02 (Bath)—May 1, 2006

NK19-07 (Providence)—May 1, 2006

NK19-10 (Block Island Shelf)—May 1, 2006

NL19-11 (Bangor)—May 1, 2006

NL19-12 (Eastport)—May 1, 2006

FOR FURTHER INFORMATION CONTACT: Renee Orr, Chief, Leasing Division at (703) 787-1376 or via e-mail at Renee.Orr@boemre.gov. Copies of the revised OPDs are available for download in .pdf format from http://www.boemre.gov/offshore/mapping/atlantic.htm.

Dated: August 5, 2010.
Robert P. LaBelle,
Acting Associate Director for Offshore Energy and Minerals Management.

[FR Doc. 2010-25037 Filed 10-4-10; 8:45 am]

BILLING CODE 4310-MR-P